INTERNATIONAL BOUNDARY AND WATER COMMISSION

United States and Mexico; United States Section; Notice of Availability of a Draft Environmental Assessment (EA) and Finding of No Significant Impact (FONSI) for the Continued Implementation of the River Management Plan for the Rio Grande Canalization Project

AGENCY: United States Section, International Boundary and Water Commission, United States and Mexico (USIBWC).

ACTION: Notice.

SUMMARY: Pursuant to Section 102(2)(c) of the National Environmental Policy Act (NEPA) of 1969; the Council on Environmental Quality Final Regulations, and the United States Section, Operational Procedures for Implementing Section 102 of NEPA, published in the Federal Register September 2, 1981, the United States Section hereby gives notice that the Draft Environmental Assessment and Finding of No Significant Impact for the Continued Implementation of the River Management Plan for the Rio Grande Canalization Project is available. An Environmental Impact Statement will not be prepared unless additional information which may affect this decision is brought to our attention within 30 days from the date of this Notice.

DATES: Public Comments: USIBWC will consider substantive comments from the public and stakeholders for 30 days after the date of publication of this NOA in the Federal Register.

Please note all written and email comments received during the comment period will become part of the public record, including any personal information you may provide. Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public disclosure in their entirety.

Public Hearings: USIBWC will be conducting two public hearings: June 18, 2019; 10 a.m. to 12 p.m., Las Cruces City Hall, 2nd Floor, Conference Room 2007A, 700 N. Main Street, Las Cruces, NM 88001; and June 19, 2019; 5-7 p.m., USIBWC American Dam/Carlos Marin Field Office, 2616 W. Paisano Drive, El Paso, TX 79922.

ADDRESSES: Comments should be sent to: Elizabeth Verdecchia, Natural Resources Specialist, USIBWC, 4171 N. Mesa, C-100; El Paso, Texas 79902. Telephone: (915) 832-4701, Fax: (915) 493-2428, email: Elizabeth.Verdecchia@ibwc.gov.

FOR FURTHER INFORMATION CONTACT: Elizabeth Verdecchia, Natural Resources Specialist, USIBWC, 4171 N. Mesa, C-100; El Paso, Texas 79902. Telephone: (915) 832-4701, Fax: (915) 493-2428, email: Elizabeth.Verdecchia@ibwc.gov.

SUPPLEMENTARY INFORMATION:

Background: On June 4, 2009, the USIBWC issued a Record of Decision (ROD) on the long-term management of the Rio Grande Canalization Project (RGCP) through 2019. The ROD committed the USIBWC to implement environmental measures, change management practices, and update the River Management Plan (RMP). The RMP covers levee maintenance; vegetation management; continued implementation and maintenance of restoration sites; endangered species management; channel maintenance; and channel maintenance alternatives (CMAs) within the USIBWC right-of-way (ROW). The EA will replace the ROD and proposes a timeline to implement the RMP through 2030. The EA evaluates potential impacts of seven alternatives, including the No Action Alternative. Under the Preferred Alternative, USIBWC would continue implementation of the RMP; designate up to 65 miles through the USIBWC ROW for the New Mexico Rio Grande Trail and Texas trails; re-evaluate and construct additional CMAs potentially outside of the ROW; increase efforts to engage stakeholders through the Sediment Control Initiative Federal Workgroup and stakeholder groups; and transfer up to 500 acres of restoration outside of the USIBWC jurisdiction of either No-Mow Zone managed grasslands or unsuccessful habitat restoration, via partnerships.

Potential impacts on natural, cultural, and other resources were evaluated. A Finding of No Significant Impact has been prepared for the Preferred Alternative based on a review of the facts and analyses contained in the Draft EA.

Availability: The electronic version of the Draft EA is available from the USIBWC web page: https://www.ibwc.gov/EMD/EIS_EA_Public_Comment.html

Dated: May 24, 2019.
Matt Myers,
Chief Legal Counsel, International Boundary and Water Commission, United States Section.

[FR Doc. 2019-11401 Filed 5-30-19; 8:45 am]

BILLING CODE 7010-01-P